DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with February anniversary dates. In accordance with Commerce's regulations, we are initiating those administrative reviews.

DATES: Applicable April 9, 2024.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with February anniversary dates.

All deadlines for the submission of various types of information, certifications, or comments or actions by Commerce discussed below refer to the number of calendar days from the applicable starting time.

Respondent Selection

In the event that Commerce limits the number of respondents for individual examination for administrative reviews initiated pursuant to requests made for the orders identified below, Commerce intends to select respondents based on U.S. Customs and Border Protection (CBP) data for U.S. imports during the period of review (POR). We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than February 28, 2025.

| Period to be reviewed
AD Proceedings
BRAZIL: Lemon Juice, A-351-858 | 8/4/22-1/31/24
Citrus Juice Eireli.
INDIA: Certain Frozen Warmwater Shrimp, A-533-840 | 2/1/23-1/31/24
Aachi Masala Foods (P) Ltd.
Aarshi Overseas Private Ltd.
Abad Fisheries; Abad Fisheries Pvt. Ltd.
Abad Overseas Private Limited.
Accelerated Freeze Drying Co., Ltd.
ADF Foods Ltd.
Aerath Business Corp.
AJS Enterprises LLP.
Akshay Food Impex Private Limited.
Alashore Marine Exports (P) Ltd.
Albys Agro Private Limited.
Al-Hassan Overseas Private Limited.
Allana Frozen Foods Pvt. Ltd.
Allanasons Ltd.
Alpha Marine.
Alps Ice & Cold Storage Private Limited.
Amaravathi Aqua Exports Private Ltd.
Amarsagar Seafoods Private Limited.
Amulya Seafoods.
Ananda Aqua Applications; Ananda Aqua Exports (P) Limited; Ananda Foods.
Ananda Enterprises (India) Private Limited.
Anantha Seafoods Private Limited.
Andaman Sea Foods Pvt. Ltd.
Anjaneya Sea Foods.
Apar Industries Limited.
Aparna Marine Exports.
Apex Frozen Foods Limited.
Aquamarine Food Products Ltd.
Aquastar Marine Exports.
Aquatica Frozen Foods Global Pvt. Ltd.
Ariba Foods Pvt. Ltd.
Arya Sea Foods Private Limited.
Asvini Agro Exports.
Asvini Exports.
Asvini Fisheries Ltd.; Asvini Fisheries Private Ltd.
Aswin Associates.
Atlas Fisheries Private Limited.
Avanti Feeds Limited.
Avanti Frozen Foods Private Limited.
Avla Nettos Exports.
Ayshwarya Sea Food Private Limited.
B R Traders.
Baby Marine Eastern Exports.
Baby Marine Exports.
Baby Marine International.
Baby Marine Sarass.
Baby Marine Ventures.
Bafna Enterprises.
Balasore Marine Exports Private Limited.
Bakemill Foods.
Baraka Overseas Traders.
Basu International.
BB Estates & Exports Private Limited.
Bell Foods (Marine Division); Bell Exim Private Limited (Bell Foods (Marine Division)).
Bergwerff Organic India Private Limited.
Bhatsons Aquatic Products.
Bhavani Seafoods.
Bhimraj Exports Private Limited.
Bijaya Marine Products.
Blue-Fin Frozen Foods Pvt Ltd.
Bluepark Seafoods Pvt. Ltd.
Blue Sea Resources Private Limited.
Bluetide Eservices Pvt., Ltd.
Blue Water Foods & Exports P. Ltd.
BMR Exports; BMR Exports Private Limited.
BMR Industries Private Limited.
B-One Business House Pvt. Ltd.
Britannia Industries Limited.
Britto Seafoods Exp. Pvt. Ltd.; Britto Exports; Britto Exports Pvt. Ltd.
C Private Limited.
C.P. Aquaculture (India) Pvt. Ltd.
Calcutta Seafoods Pvt. Ltd.; Bay Seafood Pvt. Ltd.; Elque Ventures Private Limited ⁴.
Canaan Marine Products.
CAP Seafoods Private Limited.
Capital Foods Private Limited.
Capithan Exporting Co.
Cargomar Private Limited.
Castlerock Fisheries Ltd.
Charoen Pokphand Group Co., Ltd.
Chakri Fisheries Private Limited.
Chemmeens (Regd).
Cherukattu Industries (Marine Div); Cherukattu Industries.
Choice Canning Company.
Choice Trading Corporation Pvt. Ltd.
Coastal Aqua Private Limited.
Coastal Corporation Ltd.
Cochin Frozen Food Exports Pvt. Ltd.
Cofoods Processors Private Limited.
Continental Fisheries India Private Limited.
Coreline Exports.
Corlim Marine Exports Private Limited.
Costar Processor.
CPF India Private Ltd.
Crystal Sea Foods Private Limited.
Crystalnova Foods Pvt., Ltd.
Danica Aqua Exp. Private Ltd.
Datla Sea Foods.
Deepak Nexgen Foods And Feeds Private Limited.
Deepmala Marine Exports.
Delsea Exports Pvt. Ltd.
Desai Foods Private Ltd.
Devi Fisheries Limited; Satya Seafoods Private Limited; Usha Seafoods; Devi Aquatech Private Limited.
Devi Sea Foods Limited ⁵.
Diamond Seafoods Exports; Edhayam Frozen Foods Pvt. Ltd.; Kadalkanny Frozen Foods; Theva & Company.
DN Sea Shells Private Limited.
DSF Aquatech Private Limited.
Dwaraka Sea Foods.
Eden Garden Exports.
Ega Trade Center No. 809.
Empire Industries Limited.
Entel Food Products Private Limited.
Esmario Export Enterprises.
Everblue Sea Foods Private Limited.
Fair Exp. (India) Pvt., Ltd.
Falcon Marine Exports Limited; KR Enterprises.
Febin Marine Foods Private Limited; Febin Marine Foods.
Fedora Sea Foods Private Limited.
Five Star Marine Exports Private Limited.
Food Products Pvt., Ltd.; Parayil Food Products Pvt., Ltd.
Forstar Frozen Foods Private Limited.
Fouress Food Products Pvt. Ltd.
Frontline Exports Pvt. Ltd.
G A Randerian Ltd.; G A Randerian (P) Limited.
Gadre Marine Export P Ltd.
Gaurav International.
Galaxy Maritech Exports P. Ltd.
Geo Aquatic Products (P) Ltd.
Geo Seafoods.
Ghan Marine Products.
GKS Business Associates Private Limited.
Global Gourmet Private Limited.
Glossy Impex Private Limited.
Goana Foods Prop. Cyd Paes.
Godavari Mega Aqua Food Park Private Limited.
Gokul Overseas Ltd.
Grand Marine Foods.
Grandtrust Overseas (P) Ltd.
Green Asia Impex Private Limited.
Growel Processors Private Limited.
GVR Exports Pvt. Ltd.
Hari Marine Private Limited.
Haripriya Marine Exports Pvt. Ltd.
Heiploeg Seafood India Pvt., Ltd.
HIC ABF Special Foods Pvt. Ltd.
High Care Marine Foods Exports Private Limited.
Highland Agro Food Private Limited ⁶.
Hiravati Exports Pvt. Ltd.
Hiravati International Pvt. Ltd.
Hiravati Marine Products Private Limited.
HMG Industries Ltd.
HN Indigos Private Ltd.
HT Foods Private Limited.
Hyson Exports Private Limited.
Hyson Logistics and Marine Exports Private Limited.
IFB Agro Industries Ltd.
India Gills.
Indian Aquatic Products.
Indo Aquatics.
Indo Fisheries.
Indo French Shellfish Company Private Limited.
Innovative Foods Limited.
Intl Exporters Foodparks Private Ltd.
International Freezfish Exports.
ITC Ltd.
Jagadeesh Marine Exports.
Jaya Lakshmi Sea Foods Pvt. Ltd.
Jeelani Marine Products.
Jinny Marine Traders.
Jigar Enterprises.
Joecons Marine Exp. Pvt., Ltd.
Jude Foods India Private Limited.
K R Sea Foods Private Limited.
K.V. Marine Exports.
Kader Exports Private Limited ⁷.
Kalyan Aqua & Marine Exp. India Pvt. Ltd.
Kanu Krishna Corporation.
Karunya Marine Exports Private Limited.
Karam Chand Thapar & Bros. Ltd.
Kaushalya Aqua Marine Product Exports Pvt. Ltd.
Kay Kay Exports; Kay Kay Foods.
Kiefer Sea Foods.
Kings Infra Ventures Limited.
Kings Marine Products.
KNC Agro Limited; KNC AGRO PVT. LTD.
Koluthara Exports Ltd.
Kohinoor Foods Limited.
Kumars Foods.
Kyobashi Premier Freeze Dry Private Ltd.
Latecoere India Private Ltd.
Libran Foods.
Lito Marine Exports Private Limited.
LNSK Greenhouse Agro Products LLP.
Magnum Export; Magnum Exports Pvt. Ltd.
Magnum Sea Foods Limited; Magnum Estates Limited; Magnum Estates Private; Magnum Estates Private Limited.
Mangala Marine Exim India Pvt. Ltd.
Mangala Sea Products.
Mangala Seafoods; Mangala Sea Foods.
Manjilas Food Tech Private Ltd.
Marine Harvest India.
Megaa Moda Pvt. Ltd.
Meghmani Industries Ltd.
Milesh Marine Exports Private Limited.
Milsha Agro Exports Pvt. Ltd.
Milsha Sea Products.
Minaxi Fisheries Private Limited.
Mindhola Foods LLP.
Minh Phu Group.
MMC Exports Limited.
Monsun Foods Pvt. Ltd.
Mourya Aquex Pvt. Ltd.
MTR Foods.
Munnangi Seafoods (Pvt) Ltd.
Naga Hanuman Fish Packers.
Naik Frozen Foods Private Limited; Naik Frozen Foods.
Naik Oceanic Exports Pvt. Ltd.; Rafiq Naik Exports Pvt. Ltd.
Naik Seafoods Ltd.
Nanak Nutritions Food (Taloja) Pvt., Ltd.
Naq Foods India Private Limited.
Nas Fisheries Pvt. Ltd.
Nector Exp. Pvt., Ltd.
Neeli Aqua Private Limited.
Nekkanti Mega Food Park Private Limited.
Nekkanti Sea Foods Limited.
New Faizan Foods.
Nezami Rekha Sea Foods Private Limited; Nezami Rekha Sea Food Private Limited.
Nila Sea Foods Exports; Nila Sea Foods Pvt. Ltd.
Nilamel Exp.
Nine Up Frozen Foods.
N.K. Marine Exports LLP.
Nutrient Marine Foods Limited.
Oceanic Edibles International Limited.
Orchid Marine Exports Private Limited.
Oriental Export Corporation.
Paragon Sea Foods Pvt. Ltd.
Parayil Food Products Private Limited.
Paramount Seafoods.
Pasupati Aquatics Private Limited.
Penver Products (P) Ltd.
Pesca Marine Products Pvt., Ltd.
Phillips Foods India Private Ltd.
Pijikay International Exports P Ltd.
Pohoomal Kewalram Sons Exports Pvt Ltd.
Poyilakada Fisheries Private Limited.
Pravesh Seafood Private Limited.
Premas Enterprises Private Ltd.
Premier Exports International.
Premier Marine Foods.
Premier Mills Private Limited.
Premier Seafoods Exim (P) Ltd.
Pridel Pvt., Ltd.
Protech Organo Foods Private Limited.
RDR Exports.
RF Exports Private Limited.
R.K. Industries IV.
R V R Marine Products Private Limited.
Rajyalakshmi Marine Exports.
Ram's Assorted Cold Storage Limited.
Ramoji Group Of Companies.
Raju Exports.
Raunaq Ice & Cold Storage.
Razban Seafoods Ltd.
Relish Custom Foods.
Rising Tide.
Riyarchita Agro Farming Private Limited.
Rizwan Ice & Cold Storage Partnership Firm Pvt Ltd.
Ronisha Exp.
Royal Exports.
Royal Imports and Exports.
Royale Marine Impex Pvt. Ltd.
Royalux Exports Private Limited.
RSA Marines; Royal Oceans.
Rupsha Fish Private Limited.
Ruthi Imp. & Exp.
S Chanchala Combines.
S.A. Exports.
Safera Food International.
S.H. Marine Exim.
Sagar Grandhi Exports Pvt. Ltd.
Sagar Marine Imp. & Exp.
Sagar Samrat Seafoods.
Sahada Exports.
Sai Aquatechs Private Limited.
Sai Marine Exports Pvt. Ltd.
Sai Sea Foods.
Salet Seafoods Pvt. Ltd.
Sam Aqua Exports LLP.
Samaki Exports Private Limited.
Sanchita Marine Products Private Limited.
Sandhya Aqua Exports Pvt. Ltd.; Sandhya Aqua Exports.
Sandhya Marines Limited.
Sandy Bay Seafoods India Private Limited.
Sassoondock Matsyodyog Sahakari Society Ltd.
Sas Exports.
Satish Marine Exim Private Limited.
Sea Doris Marine Exports.
Sea Foods Private Limited.
Seagold Overseas Pvt. Ltd.
Seasaga Enterprises Private Limited; Seasaga Group.
Seaeyes Stem Limited.
Sealands.
Seema Enterprises.
Sharat Industries Ltd.
Sheseema Exp.
Shimpo Exports Private Limited.
Shimpo Seafoods Private Limited.
Shiva Frozen Food Exp. Pvt. Ltd.
Shree Datt Aquaculture Farms Pvt. Ltd.
Shree Ram Agro Industries.
Shroff Processed Food & Cold Storage P Ltd.
Sigma Seafoods.
Silver Seafood.
Sita Marine Exports.
SKML Exim Private Limited.
SMD Rays.
Sonia Fisheries.
Sonia Marine Exports Private Limited.
Southern Tropical Foods Pvt. Ltd.
Sprint Exports Pvt. Ltd.
Sreeragam Export Private Limited.
Sresta Natural Bioproducts Pvt., Ltd.
Sri Sakkthi Cold Storage.
Sri Ayyanar Exp.
Sri Sai Marine Exp.
Srikanth International.
SSF Ltd.
St. Peter and Paul Sea Food Exports Private Limited.
Star Agro Marine Exports Private Limited.
Star Organic Foods Private Limited.
Stellar Marine Foods Private Limited.
Sterling Foods.
Subu Sea Foods.

| Period to be reviewed
Summit Marine Exports Private Limited.
Sun Agro Exim.
Sunrise Aqua Food Exports.
Sunrise Seafoods India Private Limited.
Supran Exim Private Limited.
Suryamitra Exim Pvt. Ltd.
Suvarna Rekha Exports Private Limited.
Suvarna Rekha Marines P Ltd.
Swadam Exp. (Opc) Pvt., Ltd.
TBR Exports Private Limited.
Teekay Marines Private Limited; Teekay Marine P. Ltd.
Tej Aqua Feeds Private Limited.
The Waterbase Ltd.
Torry Harris Seafoods Ltd.
TRDP Happy World Private Limited.
Triveni Fisheries P Ltd.
U & Company Marine Exports.
Ulka Sea Foods Private Limited.
Uniroyal Marine Exports Limited.
Unitriveni Overseas Private Limited; Unitriveni Overseas.
Uniloids Biosciences Private Limited.
Upasana Exports.
Ushodaya Enterprises Private Ltd.
V.V. Marine Products.
Vaibhav Global Ltd.
Vaisakhi Bio-Marine Private Limited.
Varma Marine.
Vasai Frozen Food Co.
Vasista Marine.
Veerabhadra Exports Private Limited.
Veronica Marine Exports Private Ltd.
Victoria Marine & Agro Exports Ltd.
Vinner Marine.
Vitality Aquaculture Pvt. Ltd.
Vivek Agro Products.
VKM Foods Private Limited.
VRC Marine Foods LLP.
Wellcome Fisheries Limited.
West Coast Fine Foods (India) Private Limited.
West Coast Frozen Foods Private Limited.
Z.A. Sea Foods Pvt. Ltd.
Zeal Aqua Limited.
INDIA: Sodium Nitrite, A-533-906 | 8/17/22-1/31/24
Deepak Nitrite Limited.
Kutch Chemical Industries Ltd.
INDIA: Stainless Steel Bar, A-533-810 | 2/1/23-1/31/24
Aamor Inox Limited.
Ambica Steels Limited.
Astrabite LLP.
Atlas Stainless Corporation Private Limited.
Bhansali Bright Bars.
Chandan Steels Limited.
Laxcon Steels Limited; Ocean Steels Private Limited; Metlax International Private Limited; Parvati Private Limited; Mega Steels Private Limited.
Meltroll Engineering Pvt. Ltd.
Venus Wire Industries Pvt. Ltd. Precision Metals, Hindustan Inox Ltd., Siev Manufacturers (India) Pvt. Ltd.
MALAYSIA: Stainless Steel Butt-Weld Pipe Fittings, A-557-809 | 2/1/23-1/31/24
New Courage Global Ltd.
Pantech Stainless & Alloy Industries Sdn. Bhd.
Statewell Co., Ltd.
MEXICO: Large Residential Washers, A-201-842 | 2/1/23-1/31/24
Electrolux Home Products, Inc.; Electrolux Home Products Corp. NV; Electrolux Home Products de Mexico S.A. de C.V.
REPUBLIC OF KOREA: Certain Cut-To-Length Carbon-Quality Steel Plate, A-580-836 | 2/1/23-1/31/24
Ajin Industrial Co., Ltd.
Daeik Eng Co., Ltd.
Dongkuk Steel Mill Co., Ltd.
Hyundai Steel Company.
Ohsung Co., Ltd.
Samjin Lnd Co., Ltd.
SOCIALIST REPUBLIC OF VIETNAM: Certain Frozen Warmwater Shrimp, A-552-802 ⁸ | 2/1/23-1/31/24
AFoods.
Amanda Seafood Co., Ltd.
An Nguyen Investment Production and Group.
Anh Khoa Seafood.
Anh Minh Quan Corp.
APT Co.
Au Vung One Seafood.
Bac Lieu Fis.
Bac Lieu Fisheries Joint Stock Company.
Baclieufis.
Bentre Forestry and Aquaproduct Import Export Joint Stock Company.
Bentre Seafood Joint Stock Company.
Beseaco.
Bien Dong Seafood Co., Ltd.
BIM Foods Joint Stock Company.
Binh Dong Fisheries Joint Stock Company.
Binh Thuan Import-Export Joint Stock Company.
Blue Bay Seafood Co., Ltd.
C.P. Vietnam Corporation.
Ca Mau Frozen Seafood Processing Import Export Corporation.
Ca Mau Seafood Joint Stock Company.
Ca Mau Seafood Processing and Service Joint Stock Corporation.
Cadovimex.
Cadovimex II Seafood Import Export and Processing Joint Stock Company.
Cadovimex Seafood Import-Export and Processing Joint Stock Company.
Cafatex Fishery Joint Stock Corporation.
CAFISH.
Camau Seafood Processing and Service Joint Stock Corporation.
Camau Seafood Processing and Service Joint-Stock Corporation.
Camimex.
Camimex Foods Joint Stock Company.
Camimex Group.
Camimex Group Joint Stock Company ⁹.
Cantho Import Export Fishery Limited Company.
Caseamex.
CASES.
CJ Cau Tre Foods Joint Stock Company.
Coastal Fisheries Development Corporation.
COFIDEC.
Cuu Long Seapro.
Cuulong Seapro.
Cuulong Seaproducts Company.
Dai Phat Tien Seafood Co., Ltd.
Danang Seafood Import Export.
Danang Seaproducts Import-Export Corporation.
Dong Hai Seafood Limited Company.
Dong Phuong Seafood Co., Ltd.
Duc Cuong Seafood Trading Co., Ltd.
Duong Hung Seafood.
FAQUIMEX.
FFC.
FIMEX VN/Sao Ta Seafood Factory ¹⁰.
Fine Foods Company.
Frozen Seafoods Factory No. 32.
Gallant Dachan Seafood Co., Ltd.
Gallant Ocean (Vietnam) Co. Ltd.
Gallant Ocean (Vietnam) Joint Stock Company.
GN Foods Joint Stock Company.
Go Dang Joint Stock Company.
GODACO Seafood.
Green Farms Seafood Joint Stock Company.
Hai Viet Corporation.
HaiViet Corporation.
Hanh An Trading Service Co., Ltd.
HAVICO.
Hoang Anh Fisheries Trading Company Limited.
Hoang Phong Seafood Co.
Hong Ngoc Seafood Co., Ltd.
Hung Bang Company Limited.
Hung Dong Investment Service Trading Co., Ltd.
HungHau Agricultural Joint Stock Company.
INCOMFISH.
Investment Commerce Fisheries Corporation.
JK Fish Co., Ltd.
Khang An Foods Joint Stock Company.
Khanh Hoa Seafoods Exporting Company.
Khanh Sung Co., Ltd.
KHASPEXCO.
Kim Anh Co., Ltd.
Kim Anh Company Limited.
Long Toan Frozen Aquatic Products Joint Stock Company.
MC Seafood.
Minh Bach Seafood Company Limited.
Minh Cuong Seafood Import Export Processing Joint Stock Company.
Minh Hai Export Frozen Seafood Processing Joint-Stock Company.
Minh Hai Joint Stock Seafoods.
Minh Hai Joint-Stock Seafood Processing Company.
Minh Hai Jostoco.
Minh Phat Seafood Company Limited ¹¹.
Minh Phu Hau Giang Seafood ¹².
Minh Phu Seafood Corporation ¹³.
Minh Qui Seafood Co., Ltd.¹⁴.
My Son Seafoods Factory.
Nam Hai Foodstuff and Export Company Ltd.
Nam Phuong Foods Import Export Company Limited.
Nam Viet Seafood Import Export Joint Stock Company.
Namcan Seaproducts Import Export Joint Stock Company.
NAVIMEXCO.
New Generation Seafood Joint Stock Company.
New Wind Seafood Company Limited.
Ngoc Tri.
Ngoc Tri Seafood Joint Stock Company.
Ngoc Trinh Bac Lieu Seafood Co., Ltd.
Nguyen Chi Aquatic Product Trading Company Limited.
Nha Trang Seafoods F89 Joint Stock Company; Nha Trang Seaproduct Company; NT Seafoods Corporation; NTSF Seafoods Joint Stock Company; Nha Trang Seafoods Group ¹⁵.
Nhat Duc Co., Ltd.
Nigico Co., Ltd.
Phuong Nam Foodstuff Corp.
Q N L Company Limited.
QAIMEXCO.
QNL Company Limited.
QNL One Member Company.
Quang Minh Seafood Co., Ltd.
Quoc Ai Seafood Processing Import Export Co., Ltd.
Quoc Toan PTE.
Quoc Toan Seafood Processing Factory.
Quoc Viet Seaproducts Processing Trading and Import-Export Co., Ltd.
Quy Nhon Frozen Seafoods Joint Stock Company.
Safe And Fresh Aquatic Products Joint Stock Company.
Saigon Aquatic Product Trading Joint Stock Company.
Saigon Food Joint Stock Company.
Sao Ta Foods Joint Stock Company.
Saota Seafood Factory.
Sea Minh Hai.
SEADANANG.
Seafood Direct 2012 One Member Limited.
Seafood Joint Stock Company No. 4.
Seafood Travel Construction Import Export Joint Stock Company.
SeafoodDirect2012 One Member Limited Liability Company.
Seafoods and Foodstuff Factory.
Seanamico.
Seaprimexco Vietnam.
Seaprodex Min Hai.
Seaprodex Minh Hai.
Seaprodex Minh Hai Factory No. 69.
Seaprodex Minh Hai Workshop 1.
Seaprodex Minh Hai-Factory No. 78.
Seaproducts Joint Stock Company.
Seaproducts Joint Stock Company No. 5.
Seaspimex Vietnam.
Seavina.
Seavina Joint Stock Company.
Simmy Seafood Company Limited.
Soc Trang Seafood Joint Stock Company.
Soc Trang Seafood Joint Stock Company.
South Ha Tinh Seaproducts Import-Export Joint Stock Company.
South Vina Shrimp.
SVS.
Southern Shrimp Joint Stock Company.
Special Aquatic Products Joint Stock Company.
STAPIMEX.
T & P Seafood Company Limited.
T&T.
T&T Cam Ranh.
Tacvan Frozen Seafood Processing Export Company.
Tacvan Seafoods Company.
Tai Kim Anh Seafood Joint Stock Corporation.
Tai Nguyen Seafood Co., Ltd.
TAIKA Seafood Corporation.
Tan Phong Phu Seafood Co., Ltd.
Tan Thanh Loi Frozen Food Co., Ltd.
Tay Do Seafood Enterprise.
THADIMEXCO.
Thai Hoa Foods Joint Stock Company.
Thai Minh Long Seafood Company Limited.
Thaimex.
Thanh Doan Fisheries Import-Export Joint Stock Company.
Thanh Doan Sea Products Import & Export Processing Joint-Stock Company.
Thanh Doan Seafood Import Export Trading Joint-Stock Company.
The Light Seafood Company Limited.
Thien Phu Export Seafood.
Thinh Hung Co., Ltd.
Thinh Phu Aquatic Products Trading Co., Ltd.
Thong Thuan Cam Ranh Seafood Joint Stock Company.
Thong Thuan Company Limited.
Thuan Phuoc Corp.
Thuan Phuoc Seafoods and Trading Corporation.
Thuan Thien Producing Trading Ltd. Co.
TPP Co. Ltd.
Trang Corporation (Vietnam).
Trang Khanh Seafood Co., Ltd.
Trong Nhan Seafood Co., Ltd.
Trung Son Seafood Processing Joint Stock Company.
UTXI Aquatic Products Processing Corporation.
UTXICO.
VAFCO.
Van Duc Food Company Limited.
Viet Asia Foods Company Limited.
Viet Foods Co., Ltd.
Viet Hai Seafood Co., Ltd.
Viet I-Mei Frozen Foods Co., Ltd.
Viet Nam Clean Seafood Corporation.
Viet Phu Foods and Fish Corp.
Viet Shrimp Corporation.
Vietnam Clean Seafood Corporation.
Vietnam Fish One Co., Ltd.
Vietrosco.
VIFAFOOD.
Vina Cleanfood.
Vinh Hoan Corp.
Vinh Phat Food Joint Stock Company.
VIPAFOOD.
XNK Thinh Phat Processing Company.
TAIWAN: Crystalline Silicon Photovoltaic Products, A-583-853 | 2/1/23-1/31/24
EEPV Corp.
THAILAND: Certain Frozen Warmwater Shrimp, A-549-822 | 2/1/23-1/31/24
A. Wattanachai Frozen Products Co., Ltd.
A.P. Frozen Foods Co., Ltd.
A.S. Intermarine Foods Co., Ltd.
ACU Transport Co., Ltd.
Ampai Frozen Food Co., Ltd.
Andaman Seafood Co., Ltd.¹⁶
Anglo-Siam Seafoods Co., Ltd.
Apex Maritime (Thailand) Co., Ltd.
Apitoon Enterprise Industry Co., Ltd.
Applied DB Ind.; Applied DB.
Asia Pacific (Thailand) Co., Ltd.
Asian Alliance International Co., Ltd.
Asian Sea Corporation Public Company Limited.
Asian Seafood Coldstorage (Sriracha).
Asian Seafoods Coldstorage PLC.
Asian Seafoods Coldstorage Public Co., Ltd.; Asian Seafoods Coldstorage (Suratthani) Co.
Asian Star Trading Co., Ltd.
Assoc. Commercial Systems.
B.S.A. Food Products Co., Ltd.
Bangkok Dehydrated Marine Product Co., Ltd.
Bright Sea Co., Ltd.; The Union Frozen Products Co., Ltd.¹⁷
C N Import Export Co., Ltd.
C Y Frozen Food Co., Ltd.
C.K. Frozen Fish and Food Co., Ltd.
C.P. Intertrade Co. Ltd.
C.P. Mdse.
C.P. Retailing and Marketing Co., Ltd.
Calsonic Kansei (Thailand) Co. Ltd.
Century Industries Co., Ltd.
Chaivaree Marine Products Co., Ltd.
Chaiwarut Company Limited.
Chanthaburi Frozen Food Co., Ltd.¹⁸
Chanthaburi Seafoods Co., Ltd.¹⁹
Charoen Pokphand Foods Public Company Limited; CP Merchandising Co., Ltd.²⁰
Charoen Pokphand Petrochemical Co., Ltd.
Chonburi LC.
Chue Eie Mong Eak.
Commonwealth Trading Co., Ltd.
Core Seafood Processing Co. Ltd.
CPF Food Network Co., Ltd.
CPF Food Products Co., Ltd.
Crystal Frozen Foods Co., Ltd.
Crystal Seafood.
Daedong (Thailand) Co., Ltd.
Daiei Taigen (Thailand) Co., Ltd.
Daiho (Thailand) Co., Ltd.
Dynamic Intertransport Co. Ltd.
Earth Food Manufacturing Co., Ltd.
F.A.I.T. Corporation Limited.
Far East Cold Storage Co., Ltd.
Fimex Vn.
Findus (Thailand) Ltd.
Fortune Frozen Foods (Thailand) Co., Ltd.
Gallant Ocean (Thailand) Co., Ltd.
Gallant Seafoods Corporation.
Global Maharaja Co., Ltd.
Golden Sea Frozen Foods Co. Ltd.
Golden Seafood International Co., Ltd.
Golden Thai Imp. & Exp. Co., Ltd.
Good Fortune Cold Storage Ltd.
Good Luck Product Co., Ltd.
Grobest Frozen Foods Co., Ltd.
Gulf Coast Crab Intl.
H.A.M. International Co., Ltd.
Haitai Seafood Co., Ltd.
Handy International (Thailand) Co., Ltd.
Heng Seafood Limited Partnership.
Heritrade Co., Ltd.; Heritrade.
HIC (Thailand) Co., Ltd.
High Way International Co., Ltd.
I.T. Foods Industries Co., Ltd.
Intersia Foods Co., Ltd.²¹
Inter-Oceanic Resources Co., Ltd.
Inter-Pacific Marine Products Co., Ltd.
K & U Enterprise Co., Ltd.
K Fresh.
K.D. Trading Co., Ltd.
K.L. Cold Storage Co., Ltd.
Kiang Huat Sea Gull Trading Frozen Food Public Co., Ltd.
Kibun Trdg.
Kingfisher Holdings Ltd.; KF Foods Limited; KF Foods ²².
Kitchens of the Ocean (Thailand) Company, Ltd.; Kitchens of the Ocean (Thailand) Ltd.
Klang Co., Ltd.
Kongphop Frozen Foods Co., Ltd.
Kyokuyo Global Seafoods Co., Ltd.
Lee Heng Seafood Co., Ltd.
Leo Transports.

| Period to be reviewed
Li-Thai Frozen Foods Co., Ltd.
Lucky Union Foods Co., Ltd.
Magnate & Syndicate Co., Ltd.
Mahachai Food Processing Co., Ltd.
Mahachai Marine Foods Co. Ltd.
Marine Gold Products Ltd.²³
May Ao Foods Co., Ltd.; A Foods 1991 Co., Limited ²⁴.
Merit Asia Foodstuff Co., Ltd.
Merkur Co., Ltd.
Mild Foods Co., Ltd.
Ming Chao Ind Thailand.
N&N Foods Co., Ltd.
N.R. Instant Produce Co., Ltd.
Namprik Maesri Ltd. Part.
Narong Seafood Co., Ltd.
Nongmon SMJ Products.
Pacific Fish Processing Co., Ltd.
Pacific Queen Co., Ltd.
Pakpanang Coldstorage Public Co., Ltd.
Penta Impex Co., Ltd.
Phatthana Frozen Food Co., Ltd.²⁵
Phatthana Seafood Co., Ltd.²⁶
Pinwood Nineteen Ninety Nine.
Piti Seafood Co., Ltd.
Premier Frozen Products Co., Ltd.
Preserved Food Specialty Co., Ltd.
Queen Marine Food Co., Ltd.
Rayong Coldstorage (1987) Co., Ltd.
Royal Andaman Seafood Co., Ltd.
S.C.C. Frozen Seafood Co., Ltd.²⁷
S&D Marine Products Co., Ltd.
S&P Syndicate Public Company Ltd.
S. Chaivaree Cold Storage Co., Ltd.
S. Khonkaen Food Ind Public; S. Khonkaen Food Industry Public Co., Ltd.
S.K. Foods (Thailand) Public Co. Limited.
S2K Marine Product Co., Ltd.
Samui Foods Company Limited.
SB Inter Food Co., Ltd.
SCT Co., Ltd.
Seafoods Enterprise Co., Ltd.
Sea Bonanza Food Co., Ltd.
SEA NT'L CO., LTD.
Sea Wealth Frozen Food Co., Ltd.²⁸
Seafresh Industry Public Co., Ltd.; Seafresh Fisheries ²⁹.
SEAPAC.
Search and Serve.
Sea-Tech Intertrade Co., Ltd.
Sethachon Co., Ltd.
Shianlin Bangkok Co., Ltd.
Shing Fu Seaproducts Development Co.
Siam Food Supply Co., Ltd.
Siam Haitian Frozen Food Co., Ltd.
Siam Intersea Co., Ltd.
Siam Marine Products Co., Ltd.
Siam Ocean Frozen Foods Co., Ltd.
Siam Union Frozen Foods; The Siam Union Frozen Foods Co., Ltd.
Siamchai International Food Co., Ltd.
Smile Heart Foods; Smile Heart Foods Co. Ltd.
SMP Food Product Co., Ltd.; SMP Foods Products Co., Ltd.; SMP Products, Co., Ltd.; SMP Food Products Co., Ltd.
Songkla Canning Public Co., Ltd.
Southeast Asian Packaging and Canning Ltd.
Southport Seafood; Southport Seafood Co., Ltd.
Star Frozen Foods Co., Ltd.
Starfoods Industries Co., Ltd.
STC Foodpak Ltd.
Suntechthai Intertrading Co., Ltd.
Surapon Seafood; Surapon Seafoods Public Co. Ltd; Surat Seafoods Public Co., Ltd.; Surapon Foods Public Co. Ltd ³⁰.
Surapon Nichirei Foods Co., Ltd.
Suratthani Marine Products Co., Ltd.
Suree Interfoods Co.,Ltd.
T.S.F. Seafood Co., Ltd.
Takzin Samut Co., Ltd.
Teppitak Seafood Co., Ltd.
Tep Kinsho Foods Co., Ltd.
Tey Seng Cold Storage Co., Ltd.; Chaiwarut Co., Ltd.; Chaiwarut Company Limited ³¹.
Thailand Fishery Cold Storage Public Co., Ltd.³².
Thai Agri Foods Public Co., Ltd.
Thai Hanjin Logistics Co., Ltd.
Thai-Ger Marine Co.; Ongkorn Cold Storage Co., Ltd.
Thai I-Mei Frozen Foods Co., Ltd.³³
Thai International Seafoods Co., Ltd.³⁴
Thai Mahachai Seafood Products Co., Ltd.
Thai Ocean Venture Co., Ltd.
Thai Pak Exports Co., Ltd.
Thai Patana Frozen Co., Ltd.
Thai Prawn Culture Center Co., Ltd.
Thai Royal Frozen Food Co., Ltd.
Thai Spring Fish Co., Ltd.
Thai Union Frozen Products Public Co., Ltd.
Thai Union Group Public Co., Ltd.; Thai Union Seafood Co., Ltd.; Pakfood Public Co., Ltd.; Asia Pacific (Thailand) Co., Ltd.; Chaophraya Cold Storage Co., Ltd.; Okeanos Co., Ltd.; Okeanos Food Co., Ltd.; Takzin Samut Co., Ltd.³⁵
Thai Union Manufacturing Company Limited.
Thai World Import and Export Co., Ltd.; Thai World Imports and Exports Co., Ltd.
Thai Yoo Ltd., Part.
The Siam Union Frozen Foods Co., Ltd.
The Union Frozen Products Co., Ltd.
Thong Thuan Co., Ltd.
Top Product Food Co., Ltd.
Trang Seafood Products Public Co., Ltd.
Transamut Food Co., Ltd.
Tung Lieng Tradg.
Unicord Public Co., Ltd.
United Cold Storage Co., Ltd.
V. Thai Food Product Co., Ltd.
Wales & Co. Universe Limited ³⁶.
Wann Fisheries Co., Ltd.
Xian-Ning Seafood Co., Ltd.
Yeenin Frozen Foods Co., Ltd.
ZAFCO TRDG
THE PEOPLE'S REPUBLIC OF CHINA: Certain Frozen Warmwater Shrimp, A-570-893 | 2/1/23-1/31/24
Allied Kinpacific Food (Dalian) Co.
Allied Pacific Aquatic Products (Zhanjiang) Co., Ltd./Allied Pacific Food (Dalian) Co., Ltd.³⁷
Anhui Fuhuang Sungem Foodstuff Group Co., Ltd.
Asian Seafoods (Zhanjiang) Co., Ltd.
Beihai Anbang Seafood Co., Ltd.
Beihai Boston Frozen Food Co., Ltd.
Beihai Evergreen Aquatic Product Science and Technology Company Limited.
Beihai Tianwei Aquatic Food Co. Ltd.
Changli Luquan Aquatic Products Co., Ltd.
Chengda Development Co Ltd
Colorful Bright Trade Co., Ltd.
Dalian Beauty Seafood Company Ltd.
Dalian Changfeng Food Co., Ltd.
Dalian Guofu Aquatic Products and Food Co., Ltd.
Dalian Haiqing Food Co., Ltd.
Dalian Hengtai Foods Co., Ltd.
Dalian Home Sea International Trading Co., Ltd.
Dalian Honghefeng International Tr.
Dalian Philica International Trade Co., Ltd.
Dalian Rich Enterprise Group Co., Ltd.
Dalian Shanhai Seafood Co., Ltd.
Dalian Sunrise Foodstuffs Co., Ltd.
Dalian Taiyang Aquatic Products Co., Ltd.
Dandong Taihong Foodstuff Co., Ltd.
Dongwei Aquatic Products (Zhangzhou) Co., Ltd.
Ferrero Food (Hangzhou) Co., Ltd.
Fujian Chaohui Group.
Fujian Chaowei International Trading.
Fujian Dongshan County Shunfa Aquatic Product Co., Ltd.
Fujian Dongwei Food Co., Ltd.
Fujian Dongya Aquatic Products Co., Ltd.
Fujian Fuding Seagull Fishing Food Co., Ltd.
Fujian Haihun Aquatic Product Company.
Fujian Hainason Trading Co., Ltd.
Fujian Min Tong Wan Hai Fishery Ltd.
Fujian R & J Group Ltd.
Fujian Rongjiang Import and Export Co., Ltd.
Fujian Zhaoan Haili Aquatic Co., Ltd.
Fuqing Chaohui Aquatic Food Co., Ltd.
Fuqing Dongwei Aquatic Products Industry Co., Ltd.
Fuqing Longhua Aquatic Food Co., Ltd.
Fuqing Minhua Trade Co., Ltd.
Fuqing Yihua Aquatic Food Co., Ltd.
Fuzhou Shuixi Food Inc.
Gallant Ocean Group.
Guangdong Evergreen Aquatic Food Co., Ltd.
Guangdong Foodstuffs Import & Export (Group) Corporation.
Guangdong Gourmet Aquatic Products Co., Ltd.
Guangdong Jinhang Foods Co., Ltd.
Guangdong Rainbow Aquatic Development.
Guangdong Savvy Seafood Inc.
Guangdong Shunxin Marine Fishery Group Co., Ltd.
Guangdong Universal Aquatic Food Co. Ltd.
Guangdong Wanshida Holding Corp.
Guangdong Wanya Foods Fty. Co., Ltd.
HaiLi Aquatic Product Co., Ltd.
Hainan Brich Aquatic Products Co., Ltd.
Hainan Golden Spring Foods Co., Ltd.
Hainan Qinfu Foods Co., Ltd.
Hainan Xintaisheng Industry Co., Ltd.
Huazhou Xinhai Aquatic Products Co. Ltd.
Kuehne Nagel Ltd. Xiamen Branch.
Leizhou Bei Bu Wan Sea Products Co., Ltd.
Longhai Gelin Foods Co., Ltd.
Maoming Xinzhou Seafood Co., Ltd.
New Continent Foods Co., Ltd.
Ningbo Prolar Global Co., Ltd.
North Seafood Group Co.
Pacific Andes Food Ltd.
Penglai Huiyang Foodstuff Co., Ltd.
Penglai Yuming Foodstuff Co., Ltd.
Qingdao Fusheng Foodstuffs Co., Ltd.
Qingdao Yihexing Foods Co., Ltd.
Qingdao Yize Food Co., Ltd.
Qingdao Zhongfu International.
Qinhuangdao Gangwan Aquatic Products Co., Ltd.
Raoping Yuxiang Aquaculture Co., Ltd.
Rizhao Meijia Aquatic Foodstuff Co., Ltd.
Rizhao Meijia Keyuan Foods Co. Ltd.
Rizhao Rongjin Aquatic.
Rizhao Rongxing Co. Ltd.
Rizhao Smart Foods Company Limited.
Rongcheng Sanyue Foodstuff Co., Ltd.
Rongcheng Yinhai Aquatic Product Co., Ltd.
Ruian Huasheng Aquatic Products.
Rushan Chunjiangyuan Foodstuffs Co., Ltd.
Rushan Hengbo Aquatic Products Co., Ltd.
Savvy Seafood Inc.
Sea Trade International Inc.
Shanghai Finigate Integrated.
Shanghai Zhoulian Foods Co., Ltd.
Shantou Freezing Aquatic Product Foodstuffs Co.
Shantou Haili Aquatic Product Co. Ltd.
Shantou Haimao Foodstuff Factory Co., Ltd.
Shantou Jiazhou Food Industrial Co., Ltd.
Shantou Jinping Oceanstar Business Co., Ltd.
Shantou Jintai Aquatic Product Industrial Co., Ltd.
Shantou Longsheng Aquatic Product Foodstuff Co., Ltd.
Shantou Ocean Best Seafood Corporation.
Shantou Red Garden Food Processing Co., Ltd./Shantou Red Garden Foodstuff Co., Ltd.³⁸
Shantou Ruiyuan Industry Co., Ltd.
Shantou Wanya Foods Fty. Co., Ltd.
Shantou Yuexing Enterprise Company.
Shengyuan Aquatic Food Co., Ltd.
Suizhong Tieshan Food Co., Ltd.
Thai Royal Frozen Food Zhanjiang Co., Ltd.
Time Seafood (Dalian) Company Limited.
Tongwei Hainan Aquatic Products Co., Ltd.
Xiamen East Ocean Foods Co., Ltd.
Xiamen Golden Huanan Imp. & Exp. Co., Ltd.
Xiamen Granda Import and Export Co., Ltd.
Xiamen Lixing Imp. & Exp. Co., Ltd.
Yangjiang Dawu Aquatic Products Co., Ltd.
Yangjiang Guolian Seafood Co., Ltd.
Yangjiang Haina Datong Trading Co.
Yantai Longda Foodstuffs Co., Ltd.
Yantai Tedfoods Co., Ltd.
Yantai Wei-Cheng Food Co., Ltd.
Yixing Magnolia Garment Co., Ltd.
Zhangzhou Donghao Seafoods Co., Ltd.
Zhangzhou Fuzhiyuan Food Co., Ltd.
Zhangzhou Hongwei Foods Co., Ltd.
Zhangzhou Tai Yi Import & Export Trading Co., Ltd.
Zhangzhou Xinhui Foods Co., Ltd.
Zhangzhou Xinwanya Aquatic Product Co., Ltd.
Zhangzhou Yanfeng Aquatic Product & Foodstuff Co., Ltd.
Zhanjiang Evergreen Aquatic Product Science and Technology Co., Ltd.
Zhanjiang Fuchang Aquatic Products Co., Ltd.
Zhanjiang Fuchang Aquatic Products Freezing Plant.
Zhanjiang Go-Harvest Aquatic Products Co., Ltd.
Zhanjiang Guolian Aquatic Products Co., Ltd.³⁹
Zhanjiang Longwei Aquatic Products Industry Co., Ltd.
Zhanjiang Regal Integrated Marine Resources Co., Ltd.⁴⁰
Zhanjiang Universal Seafood Corp.
Zhanjiang Weipinwei Aquatic Products Co., Ltd.
Zhaoan Yangli Aquatic Co., Ltd.
Zhejiang Evernew Seafood Co.
Zhejiang Tianhe Aquatic Products.
Zhejiang Xinwang Foodstuffs Co., Ltd.
Zhenye Aquatic (Huilong) Ltd.
Zhoushan City Shengtai Aquatic.
Zhoushan Genho Food Co., Ltd.
Zhoushan Green Food Co., Ltd.
Zhoushan Haizhou Aquatic Products.
Zhuanghe Yongchun Marine Products.
THE PEOPLE'S REPUBLIC OF CHINA: Common Alloy Aluminum Sheet, A-570-073 | 2/1/23-1/31/24
Henan Mingtai Al. Industrial Co., Ltd.
Yinbang Clad Material Co., Ltd.
Zhengzhou Mingtai Industry Co., Ltd.
THE PEOPLE'S REPUBLIC OF CHINA: Crystalline Silicon Photovoltaic Products, A-570-010 | 2/1/23-1/31/24
Anji Dasol Solar Energy Science & Technology Co., Ltd.
BYD (Shangluo) Industrial Co., Ltd.
Canadian Solar International Limited
Canadian Solar Manufacturing (Changshu) Inc.
Canadian Solar Manufacturing (Luoyang) Inc.
Changzhou Trina Hezhong Photoelectric Co., Ltd.
Changzhou Trina Solar Energy Co., Ltd.
Changzhou Trina Solar Yabang Energy Co., Ltd.
Chint Energy (Haining) Co., Ltd.; Chint Solar (Hong Kong) Company Limited; Chint Solar (Jiuquan) Co., Ltd.
Chint Solar (Zhejiang) Co., Ltd.; Chint New Energy Technology (Haining) Co. Ltd.
CSI Cells Co., Ltd.
CSI Solar Power (China) Inc.
CSI-GCL Solar Manufacturing (Yancheng) Co., Ltd.
De-Tech Trading Limited HK.
Hefei JA Solar Technology Co., Ltd.
Hengdian Group DMEGC Magnetics Co. Ltd.
Hubei Trina Solar Energy Co., Ltd.
JA Solar Co., Ltd.
JA Solar Technology Yangzhou Co., Ltd.
Jiangsu Jinko Tiansheng Solar Co., Ltd.
Jiawei Solarchina (Shenzhen) Co., Ltd.
Jiawei Solarchina Co., Ltd.
JingAo Solar Co., Ltd.
Jinko Solar Co. Ltd.
Jinko Solar Import and Export Co., Ltd.
Jinko Solar International Limited
JinkoSolar Technology (Haining) Co., Ltd.
Jiujiang Shengchao Xinye Technology Co., Ltd.
Jiujiang Shengzhao Xinye Trade Co., Ltd.
Lightway Green New Energy Co., Ltd.
Longi (HK) Trading Ltd.
Longi Solar Technology Co. Ltd.; Lerri Solar Technology Co., Ltd.
Luoyang Suntech Power Co., Ltd.
Ningbo ETDZ Holdings, Ltd.
Ningbo Qixin Solar Electrical Appliance Co., Ltd.
Perlight Solar Co., Ltd.
Renesola Jiangsu Ltd.
ReneSola Zhejiang Ltd.
Risen (Luoyang) New Energy Co., Ltd.
Risen (Wuhai) New Energy Co., Ltd.
Risen Energy Co. Ltd.; Risen Energy (Changzhou) Co., Ltd.
Ruichang Branch, Risen Energy (HongKong) Co., Ltd.
Shanghai BYD Co., Ltd.
Shenzhen Sungold Solar Co., Ltd.
Shenzhen Topray Solar Co., Ltd.
Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited.
Sumec Hardware & Tools Co., Ltd.
Sunny Apex Development Ltd.
Suntech Power Co., Ltd.
Taizhou BD Trade Co., Ltd.
tenKsolar (Shanghai) Co., Ltd.
Trina Solar (Changzhou) Science & Technology Co., Ltd.
Trina Solar (Changzhou) Science and Technology Co., Ltd.
Trina Solar (Hefei) Science and Technology Co., Ltd.
Trina Solar Co., Ltd.
Turpan Trina Solar Energy Co., Ltd.
Wuxi Suntech Power Co., Ltd.
Wuxi Tianran Photovoltaic Co., Ltd.
Xiamen Yiyusheng Solar Co., Ltd.
Yancheng Trina Guoneng Photovoltaic Technology Co., Ltd.
Yingli Green Energy International Trading Company Limited.
Yuhuan Jinko Solar Co., Ltd.
Zhejiang Aiko Solar Energy Technology Co., Ltd.
Zhejiang Jinko Solar Co., Ltd.
Zhejiang Twinsel Electronic Technology Co., Ltd.
THE PEOPLE'S REPUBLIC OF CHINA: Wood Mouldings and Millwork Products, A-570-117 | 2/1/23-1/31/24
Anji Huaxin Bamboo & Wood Products Co., Ltd.
Baixing Import and Export Trading Co., Ltd Youxi Fujian.
Bel Trade Wood Industrial Co., Ltd. Youxi Fujian.
Composite Technology International Limited.
Fotiou Frames Limited.
Fujian Hongjia Craft Products Co., Ltd.
Fujian Jinquan Trade Co., Ltd.
Fujian Sanming City Donglai Wood Co., Ltd.
Fujian Shunchang Shengsheng Wood Industry Limited Company.
Fujian Wangbin Decorative Material Co., Ltd.
Fujian Yinfeng Imp & Exp Trading Co., Ltd.
Fujian Youxi Best Arts & Crafts Co. Ltd.
Fujian Zhangping Kimura Forestry Products Co., Ltd.
Gaomi Hongtai Home Furniture Co., Ltd.
Homebuild Industries Co., Ltd.
Huaan Longda Wood Industry Co., Ltd.
Jiangsu Chen Sheng Forestry Development Co., Ltd.
Jiangsu Wenfeng Wood Co., Ltd.
Jim Fine Wooden Products Co., Ltd.
Longquan Jiefeng Trade Co., Ltd.
Nanjing Hualianxing Electronics Co., Ltd.
Nanping Huatai Wood & Bamboo Co., Ltd.
Omni One Co., Limited.
Perfect Window Fashions Co., Ltd.
Putian Yihong Wood Industry Co., Ltd.
Raoping HongRong Handicrafts Co., Ltd. (d.b.a. Chen Chui Global Corp.).
Sanming Lintong Trading Co., Ltd.
Shandong Miting Household Co., Ltd.
Shaxian Hengtong Wood Industry Co., Ltd.
Shaxian Shiyiwood, Ltd.
Shenzhen Xinjintai Industrial Co., Ltd.
Shuyang Kevin International Co., Ltd.
Sun Valley Shade Co., Ltd.
Suqian Sulu Import & Export Trading Co., Ltd.
Tim Feng Manufacturing Co., Ltd.
Wuxi Boda Bamboo & Wood Industrial Co., Ltd.
Zhangzhou Wangjiamei Industry & Trade Co., Ltd.
Zhangzhou Yihong Industrial Co., Ltd.
Zhejiang Senya Board Industry Co., Ltd.
SOUTH AFRICA: Lemon Juice, A-791-827 | 8/4/22-1/31/24
Cape Fruit Processors Pty. Ltd.
Granor Passi Pty Ltd.
Magaliesberg Citrus Company.
Onderberg Verwerkingskooperasie Beperk.
Venco Fruit Processors Pty. Ltd.
UNITED ARAB EMIRATES: Prestressed Concrete Steel Wire Strand, A-520-809 | 2/1/23-1/31/24
Essen Steel Industry L.L.C.
CVD Proceedings Period To Be Reviewed
CANADA: Certain Softwood Lumber Products, C-122-858 | 1/1/23-12/31/23
Portbec Forest Products Ltd (aka Les Produits Forestiers Portbec Ltee) ⁴¹.
INDIA: Certain Cold-Drawn Mechanical Tubing of Carbon and Alloy Steel, C-533-874 | 1/1/23-12/31/23
Goodluck India Limited.
INDIA: Sodium Nitrite, C-533-907 | 6/21/22-12/31/23
Deepak Nitrite Limited.
Kronox Lab Sciences Pvt Ltd.
Kutch Chemical Industries.
Palvi Industries Limited.
Lotus Global Pvt. Ltd.
ITALY: Forged Steel Fluid End Blocks,⁴² C-475-841 | 1/1/23-12/31/23
REPUBLIC OF KOREA: Certain Cut-To-Length Carbon-Quality Steel Plate, C-580-837 | 1/1/23-12/31/23
Ajin Industrial Co., Ltd.
BDP International.
Daeik Eng Co., Ltd.
Dongkuk Steel Mill Co., Ltd.
Hyundai Steel Company.
Ohsung Co., Ltd.
Samjin Lnd Co., Ltd.
Sung Jin Steel Co., Ltd.
THE PEOPLE'S REPUBLIC OF CHINA: Common Alloy Aluminum Sheet, C-570-074 | 1/1/23-12/31/23
Alcha International Holdings Limited.
Henan Mingtai Al. Industrial, Co., Ltd.
Jiangsu Alcha Aluminium Co., Ltd.
Yinbang Clad Material Co., Ltd.
Zhengzhou Mingtai Industry, Co., Ltd.
THE PEOPLE'S REPUBLIC OF CHINA: Truck and Bus Tires, C-570-041 | 1/1/23-12/31/23
Bridgestone (Shenyang) Tire Co. Ltd.
Bridgestone Tire Co., Ltd.
Bridgestone Corporation.
Jiangsu General Science Technology Co., Ltd.
Jiangsu Hankook Tire Co., Ltd.
Chongqing Hankook Tire Co., Ltd.
Shandong Hugerubber Co., Ltd.
Weifang Shunfuchang Rubber and Plastic Products Co., Ltd.
THE PEOPLE'S REPUBLIC OF CHINA: Wood Mouldings and Millwork Products, C-570-118 | 1/1/23-12/31/23
Anji Huaxin Bamboo & Wood Products Co., Ltd.
Aventra Inc.
Baixing Import and Export Trading Co., Ltd. Youxi Fujian.
Bel Trade Wood Industrial Co.
Bel Trade Wood Industrial Co., Ltd. Youxi Fujian.
Cao County Hengda Wood Products Co., Ltd.
China Cornici Co. Ltd.
Composite Technology International Limited.
Fotiou Frames Limited.
Fujian Hongjia Craft Products Co., Ltd.
Fujian Jinquan Trade Co., Ltd., and Fujian Province Youxi County Baiyuan Wood Machining Co., Ltd.⁴³
Fujian Sanming City Donglai Wood Co., Ltd.
Fujian Shunchang Shengsheng Wood Industry Limited Company.
Fujian Wangbin Decorative Material Co., Ltd.
Fujian Yinfeng Imp & Exp Trading Co., Ltd.; Fujian Province Youxi City Mangrove Wood Machining Co., Ltd.; and Fujian Province Youxi City Mangrove Wood Machining Co., Ltd. Youxi Xicheng Branch ⁴⁴.
Fujian Youxi Best Arts & Crafts Co. Ltd.
Fujian Zhangping Kimura Forestry Products Co., Ltd.
Homebuild Industries Co., Ltd.

| Period to be reviewed
Huaan Longda Wood Industry Co., Ltd.
Jiangsu Chensheng Forestry Development Co., Ltd.
Jiangsu Wenfeng Wood Co., Ltd.
Longquan Jiefeng Trade Co., Ltd.
Nanjing Hualianxing Electronics Co., Ltd.
Nanping Huatai Wood & Bamboo Co., Ltd.
Omni One Co., Limited.
Perfect Window Fashions Co., Ltd.
Putian Yihong Wood Industry Co., Ltd.
Raoping HongRong Handicrafts Co., Ltd. (d.b.a. Chen Chui Global Corp.).
Sanming Lintong Trading Co., Ltd.
Shandong Miting Household Co., Ltd.
Shaxian Hengtong Wood Industry Co., Ltd.
Shaxian Shiyiwood, Ltd.
Shenzhen Xinjintai Industrial Co., Ltd.
Shuyang Kevin International Co., Ltd.
Wuxi Boda Bamboo & Wood Industrial Co., Ltd.
Zhangzhou Wangjiamei Industry & Trade Co., Ltd.
Zhangzhou Yihong Industrial Co., Ltd.
Zhejiang Senya Board Industry Co., Ltd.
Suspension Agreements Period to be Reviewed
None.

⁴ On March 11, 2024, Commerce determined that Elque Ventures Private Limited is the successor-in-interest to Elque & Co. Therefore, the results of this review will be applicable to the Elque Group comprised of the companies listed above. See Certain Frozen Warmwater Shrimp From India: Notice of Final Results of Antidumping Duty Changed Circumstances Review, 89 FR 17386 (March 11, 2024).

⁵ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

⁶ On October 18, 2023, Commerce determined that Highland Agro Food Private Limited is the successor-in-interest to Highland Agro. See Certain Frozen Warmwater Shrimp From India: Notice of Final Results of Antidumping Duty Changed Circumstances Review, 88 FR 71825 (October 18, 2023).

⁷ On December 23, 2022, Commerce determined that Kader Exports Private Limited is the successor-in-interest to the Liberty Group, which is comprised of Devi Marine Food Exports Private Ltd.; Kader Exports Private Limited; Kader Investment and Trading Company Private Limited; Liberty Frozen Foods Private Limited; Liberty Oil Mills Limited; Premier Marine Products Private Limited; and Universal Cold Storage Private Limited. See Certain Frozen Warmwater Shrimp from India: Notice of Final Results of Antidumping Duty Changed Circumstances Review, 87 FR 78941 (December 23, 2022).

⁸ Where interested parties requested review of a company name combined with an abbreviation of the company name or alternative (i.e., doing-business-as) name, Commerce treated the company names separately from those abbreviations/alternatives for review initiation purposes.

⁹ Interested parties requested a review of Camau Frozen Seafood Processing Import Export Corporation, but Commerce has previously determined that Camimex Group Joint Stock Company is the successor-in-interest to Camau Frozen Seafood Processing Import Export Corporation, so has only listed Camimex Group Joint Stock Company in this notice. See Certain Frozen Warmwater Shrimp from the Socialist Republic of Vietnam: Notice of Final Results of Antidumping Duty Changed Circumstances Review, 86 FR 47617, August 26, 2021.

¹⁰ Interested parties requested a review of FIMEX VN and Sao Ta Seafood Factory separately, but Commerce has listed them together here because it previously determined that these two entries are affiliated within the meaning of section 771(33) of the Act and comprise a single entity pursuant to 19 CFR 351.401(f). See Certain Frozen Warmwater Shrimp from the Socialist Republic of Vietnam: Final Results of Antidumping Duty Administrative Review, 2017-2018, 84 FR 44859, August 27, 2019.

¹¹ Shrimp produced and exported by Minh Phat Seafood Company Limited were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹² Shrimp produced and exported by Minh Phu Hau Giang Seafood were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹³ Shrimp produced and exported by Minh Phu Seafood Corporation were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹⁴ Shrimp produced and exported by Minh Qui Seafood Co., Ltd. were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹⁵ Interested parties requested a review of these companies separately, but Commerce has listed them together here because it previously determined that these entities are affiliated within the meaning of section 771(33) of the Act and comprise a single entity pursuant to 19 CFR 351.401(f). See Certain Frozen Warmwater Shrimp from the Socialist Republic of Vietnam: Preliminary Results, Partial Rescission, and Request for Revocation, In Part, of the Fifth Administrative Review, 76 FR 12054, 12056 (March 4, 2011), unchanged in Certain Frozen Warmwater Shrimp from the Socialist Republic of Vietnam: Final Results and Final Partial Rescission of Antidumping Duty Administrative Review, 76 FR 56158 (September 12, 2011).

¹⁶ In the investigation, we found it appropriate to treat the following companies as a single entity: Andaman Seafood Co., Ltd. (Andaman Seafood); Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Andaman Seafood and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

¹⁷ In past reviews, Commerce has treated these companies as a single entity. See, e.g., Certain Frozen Warmwater Shrimp from Thailand: Final Results of Antidumping Duty Administrative Review; Final Determination of No Shipments; 2015-2016, 82 FR 30836 (July 3, 2017) (2015-2016 AR Final). Absent information to the contrary, we intend to continue to treat these companies as a single entity for the purpose of this administrative review.

¹⁸ In the investigation, we found it appropriate to treat the following companies as a single entity: Andaman Seafood Co., Ltd.; Chanthaburi Seafoods Co., Ltd.; Chanthaburi Frozen Food Co., Ltd. (Chanthaburi Frozen); Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Chanthaburi Frozen and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

¹⁹ In the investigation, we found it appropriate to treat the following companies as a single entity: Andaman Seafood Co., Ltd.; Chanthaburi Seafoods Co., Ltd. (Chanthaburi Seafoods); Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Chanthaburi Seafoods and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

²⁰ In past reviews, Commerce has treated these companies as a single entity. See, e.g., 2015-2016 AR Final. Absent information to the contrary, we intend to continue to treat these companies as a single entity for the purpose of this administrative review.

²¹ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.(Intersia Foods); Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Intersia Foods and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods, one of the companies within the entity. See Certain Frozen Warmwater Shrimp from Thailand: Final Results and Final Partial Rescission of Antidumping Duty Administrative Review, 73 FR 50933, 50935 (August 29, 2008). As such, Y2K Frozen Co., Ltd. is not listed in this initiation notice.

²² In past reviews, Commerce has treated these companies as a single entity. See, e.g., Certain Frozen Warmwater Shrimp from Thailand: Final Results and Final Partial Rescission of Antidumping Duty Administrative Review; 2006-2007, 73 FR 50933 (August 29, 2008) (2006-2007 AR Final). Absent information to the contrary, we intend to continue to treat these companies as a single entity for the purpose of this administrative review.

²³ Certain frozen warmwater shrimp produced and exported by Marine Gold Products Ltd. (Marine Gold) were excluded from the order effective February 1, 2012. See Certain Frozen Warmwater Shrimp from Thailand: Final Results of Antidumping Duty Administrative Review, Partial Rescission of Review, and Revocation of the Order (in Part); 2011-2012, 78 FR 42497 (July 16, 2013). This exclusion is not applicable to merchandise exported to the United States by Marine Gold in any other producer/exporter combination or by third parties that sourced subject merchandise from the excluded producer/exporter combination. Accordingly, this initiation covers merchandise: (1) produced by a third party and exported by Marine Gold; (2) produced by Marine Gold and exported by a third party; or (3) exported by a third party that sourced subject merchandise from the excluded producer/exporter combination.

²⁴ In past reviews, Commerce has treated these companies as a single entity. See, e.g., 2015-2016 AR Final. Absent information to the contrary, we intend to continue to treat these companies as a single entity for the purpose of this administrative review.

²⁵ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd. (Phatthana Frozen); and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Phatthana Frozen and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

²⁶ In the investigation, we found it appropriate to treat the following companies as a single entity: Andaman Seafood Co., Ltd.; Chanthaburi Seafoods Co., Ltd.; Chanthaburi Frozen Food Co., Ltd.; Phatthana Seafood Co., Ltd. (Phatthana Seafood); Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Phatthana Seafood and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

²⁷ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd. (S.C.C. Frozen); Intersia Foods Co., Ltd.; Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by S.C.C. Frozen and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

²⁸ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (Sea Wealth) (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Sea Wealth and exported to the United States by any of the Single Entity companies This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

²⁹ In past reviews, Commerce has treated these companies as a single entity. See, e.g., 2015-2016 AR Final. Absent information to the contrary, we intend to continue to treat these companies as a single entity for the purpose of this administrative review.

³⁰ In past reviews, Commerce has treated these companies as a single entity. See, e.g., 2015-2016 AR Final. Absent information to the contrary, we intend to continue to treat these companies as a single entity for the purpose of this administrative review.

³¹ In past reviews, Commerce has treated these companies as a single entity. See, e.g., 2006-2007 AR Final. Absent information to the contrary, we intend to continue to treat these companies as a single entity for the purpose of this administrative review.

³² In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd. (Thailand Fishery); Wales & Company Universe Ltd.; S.C.C. Frozen Seafood Co., Ltd.; Intersia Foods Co., Ltd.; Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Thailand Fishery and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

³³ Certain frozen warmwater shrimp produced and exported by Thai I-Mei Frozen Foods Co., Ltd. (Thai I-Mei) were excluded from the order effective January 16, 2009. See Section 129 Determination. This exclusion is not applicable to merchandise exported to the United States by Thai I-Mei in any other producer/exporter combination or by third parties that sourced subject merchandise from the excluded producer/exporter combination. Accordingly, this initiation covers merchandise: (1) produced by a third party and exported by Thai I-Mei; (2) produced by Thai I-Mei and exported by a third party; or (3) exported by a third party that sourced subject merchandise from the excluded producer/exporter combination.

³⁴ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd. (Thai International); Thailand Fishery Cold Storage Public Co., Ltd.; Wales & Company Universe Ltd.; S.C.C. Frozen Seafood Co., Ltd.; Intersia Foods Co., Ltd.; Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Thai International and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

³⁵ In past reviews, Commerce has treated these companies as a single entity. See, e.g., 2015-2016 AR Final. Absent information to the contrary, we intend to continue to treat these companies as a single entity for the purpose of this administrative review.

³⁶ In the investigation, we found it appropriate to treat the following companies as a single entity: Andaman Seafood Co., Ltd.; Chanthaburi Seafoods Co., Ltd.; Chanthaburi Frozen Food Co., Ltd.; Phatthana Seafood Co., Ltd.; Thai International Seafood Co., Ltd.; Thailand Fishery Cold Storage Public Co., Ltd.; Wales & Company Universe Ltd. (Wales & Company); S.C.C. Frozen Seafood Co., Ltd.; Intersia Foods Co., Ltd.; Phatthana Frozen Food Co., Ltd.; and Sea Wealth Frozen Food Co, Ltd. (collectively, the Single Entity). See Notice of Final Determination of Sales at Less Than Fair Value and Negative Final Determination of Critical Circumstances: Certain Frozen and Canned Warmwater Shrimp from Thailand, 69 FR 76918, 76920 n.4, December 23, 2004, unchanged in Notice of Amended Final Determination of Sales at Less Than Fair Value and Antidumping Duty Order: Certain Frozen Warmwater Shrimp from Thailand, 70 FR 5145, February 1, 2005. Certain frozen warmwater shrimp produced and exported by the Single Entity were subsequently excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). This exclusion is applicable only to merchandise produced by Wales & Company and exported to the United States by any of the Single Entity companies. This exclusion does not apply to any other producer/exporter combination or by third parties that sourced subject merchandise from the excluded producer/exporter combination. Accordingly, this initiation covers merchandise: (1) produced by a third party and exported by the companies listed above that are part of the single entity; (2) produced by a company that is part of the single entity and exported by a third party; or (3) exported by a third party that sourced subject merchandise from the excluded producer/exporter combination. Additionally, Commerce received a request for review of Y2K Frozen Co., Ltd., a company now known as Intersia Foods Co., Ltd., one of the companies within the entity. See Certain Frozen Warmwater Shrimp from Thailand: Final Results and Final Partial Rescission of Antidumping Duty Administrative Review, 73 FR 50933, 50935 (August 29, 2008). As such, Y2K Frozen Co., Ltd. is not listed in this initiation notice.

³⁷ Allied Pacific Food (Dalian) Co., Ltd., Allied Pacific (HK) Co., Ltd., Allied Pacific Aquatic Products (Zhanjiang) Co., Ltd; and Allied Pacific Aquatic Products (Zhongshan) Co., Ltd. comprise the single entity Allied Pacific. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013) (China Shrimp Exclusion). Additionally, this Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See China Shrimp Exclusion, 78 FR at 18959. Accordingly, we are initiating this review for these exporters only with respect to subject merchandise produced by entities other than the aforementioned producers.

³⁸ Shantou Red Garden Food Processing Co., Ltd. and Shantou Red Garden Foodstuff Co., Ltd. comprise the single entity Shantou Red Garden Foods. See Certain Frozen Warmwater Shrimp from the People's Republic of China: Final Results of Antidumping Duty Administrative Review and Final Determination of No Shipments; 2018-2019, 85 FR 83891 (December 23, 2020).

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether ADs have been absorbed by an exporter or producer subject to the review if the subject merchandise is sold in the United States through an importer that is affiliated with such exporter or producer. The request must include the name(s) of the exporter or producer for which the inquiry is requested.

³⁹ This Order was revoked with respect to subject merchandise produced and exported by Zhanjiang Guolian Aquatic Products Co., Ltd. See Notice of Amended Final Determination of Sales at Less Than Fair Value and Antidumping Duty Order: Certain Frozen Warmwater Shrimp from the People's Republic of China, 70 FR 5149, 5152 (February 1, 2005). Accordingly, we are initiating this review for this exporter only with respect to subject merchandise produced by another entity.

⁴⁰ This Order was revoked with respect to subject merchandise produced and exported by Zhanjiang Regal Integrated Marine Resources Co., Ltd. See Certain Frozen Warmwater Shrimp from the People's Republic of China: Final Results of Administrative Review; 2011-2012, 78 FR 56209, 56210 (September 12, 2013). Accordingly, we are initiating this review for this exporter only with respect to subject merchandise produced by another entity.

⁴¹ Portbec Forest Products Ltd (aka Les Produits Forestiers Portbec Ltee) was inadvertently included in the initiation notice that published on March 5, 2024 (89 FR 15827, 15838). Through this notice, we are removing Portbec Forest Products Ltd (aka Les Produits Forestiers Portbec Ltee) from the January 1, 2023, through December 31, 2023, administrative review of the CVD order of certain softwood lumber products from Canada (C-122-858).

⁴² In the March 5, 2024 Initiation Notice (89 FR 15827) for India: Forged Steel Fluid End Blocks, C-533-894, we incorrectly listed the companies under review. The only party for which we have a review request is Bharat Forge Limited. Further, for Italy: Forged Steel Fluid End Blocks, C-475-841, there are two additional companies under review. These companies include Cogne Acciai Speciali S.p.A. and Metalcam S.p.A.

⁴³ In past reviews, Commerce has found these entities to be cross-owned. See Wood Mouldings and Millwork Products from the People's Republic of China: Final Results and Partial Rescission of Countervailing Duty Administrative Review; 2020-2021, 88 FR 62319 (September 11, 2023) and Wood Mouldings and Millwork Products From the People's Republic of China: Preliminary Results and Partial Rescission of Countervailing Duty Administrative Review; 2022, 89 FR 15816 (March 5, 2024). Absent information to the contrary, we intend to continue to treat these entities as cross-owned for the purpose of this administrative review.

⁴⁴ Id.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁴⁵ available at https://www.govinfo.gov/content/pkg/FR-2013-07-17/pdf/2013-17045.pdf, prior to submitting factual information in this segment. Note that Commerce has amended certain of its requirements pertaining to the service of documents in 19 CFR 351.303(f).⁴⁶

⁴⁵ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁴⁶ Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.⁴⁷ Commerce intends to reject factual submissions in any proceeding segments if the submitting party does not comply with applicable certification requirements.

⁴⁷ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.⁴⁸ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

⁴⁸ See 19 CFR 351.302.

These initiations and this notice are in accordance with section 751(a) of the Act (19 U.S.C. 1675(a)) and 19 CFR 351.221(c)(1)(i).

Dated: April 3, 2024.
James Maeder,
Deputy Assistant Secretary for Antidumping and Countervailing Duty Operations.

[FR Doc. 2024-07407 Filed 4-8-24; 8:45 am]

BILLING CODE 3510-DS-P